DEPARTMENT OF AGRICULTURE

Agricultural Marketing Service

[Docket No. AMS-FV-09-0059; FV09-981-3NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision of a currently approved information collection for Almonds Grown in California, M.O. No. 981.

DATES: Comments on this notice must be received by January 12, 2010.

ADDRESSES: Interested persons are invited to submit written comments concerning this notice. Comments must be sent to the Docket Clerk, Marketing Order Administration Branch, Fruit and Vegetable Programs, AMS, USDA, 1400 Independence Avenue, SW., STOP 0237, Washington, DC 20250-0237; Fax: (202) 720-8938; or Internet: http://www.regulations.gov. Comments should reference the docket number and the date and page number of this issue of the Federal Register and will be available for public inspection in the Office of the Docket Clerk during regular business hours, or can be viewed at: http://www.regulations.gov.

FOR FURTHER INFORMATION CONTACT: Valerie L. Emmer-Scott, Marketing Order Administration Branch, Fruit and Vegetable Programs, AMS, USDA; Telephone: (202) 205-2829, Fax: (202) 720-8938, or E-mail: Valerie.Emmer@ams.usda.gov.

Small businesses may request information on this notice by contacting Jay Guerber, Marketing Order Administration Branch, Fruit and Vegetable Programs, AMS, USDA, 1400 Independence Avenue, SW., STOP 0237, room 1406-S, Washington, DC 20250-0237; telephone (202) 720-2491, Fax: (202) 720-8938, or E-mail: Jay.Guerber@ams.usda.gov.

SUPPLEMENTARY INFORMATION: Title: Almonds Grown in California, Marketing Order No. 981.

OMB Number: 0581-0242.

Expiration Date of Approval: March 31, 2010.

Type of Request: Extension and revision of a currently approved information collection.

Abstract: The information collection requirements in this request are essential to carry out the intent of the Agricultural Marketing Agreement Act of 1937 (Act), as amended (7 U.S.C. 601-674), to provide the respondents the type of service they request, and to administer the California almond marketing order program (order) (7 CFR part 981) which has been operating since 1950.

The order and its rules and regulations authorize the Almond Board of California (board), the agency responsible for local administration of the order, to require handlers and other certain entities to submit information.

In September 2007, a mandatory program was implemented under the order to help reduce the potential for Salmonella in almonds. The board has developed forms as a means for persons to file required information with the board relating to the treatment of almonds to reduce the potential for Salmonella. Almond handlers are required to submit annual treatment plans to the board and inspection agency regarding how they plan to treat their almonds to reduce the potential for Salmonella. Entities interested in being almond process authorities that validate technologies are required to submit an application to the board on ABC Form No. 51, “Application for Process Authority for Almonds.” Manufacturers in the United States, Canada, and Mexico interested in being approved to accept untreated almonds, provided they agree to treat the almonds themselves under the board's Direct Verifiable (DV) program are required to submit an application to the board on ABC Form No. 52, “Application for Direct Verifiable (DV) Program for Further Processing of Untreated Almonds.” Entities interested in being approved DV user auditors are required to submit an application to the board on ABC Form No. 53, “Application for Direct Verifiable (DV) Program Auditors.”

The information collected would be used only by authorized representatives of USDA, including AMS, Fruit and Vegetable Programs' regional and headquarters' staff, and authorized employees and agents of the board. Authorized board employees, agents, and the industry are the primary users of the information and AMS is the secondary user.

Estimate of Burden: Public reporting burden for this collection of information is estimated to average 13.77 hours per response.

Respondents: Almond handlers; persons or organizations that would like to qualify to be board-approved process authorities that validate treatments and technologies; manufacturers who would like to qualify to participate in the board's DV program; and entities that would like to qualify as auditors under the DV program.

Estimated Number of Respondents: 175.

Estimated Number of Responses per Respondent: 1.74.

Estimated Total Annual Burden on Respondents: 4,200 hours.

Comments are invited on: (1) Whether the proposed collection of information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference this docket number and the appropriate marketing order and be sent to the USDA in care of the Docket Clerk at the address above. All comments received will be available for public inspection during regular business hours at the same address.

All responses to this notice will be summarized and included in the request for OMB approval. All comments will become a matter of public record.

Dated: October 27, 2009.
Rayne Pegg,
Administrator, Agricultural Marketing Service.

[FR Doc. E9-27230 Filed 11-12-09; 8:45 am]

BILLING CODE 3410-02-P